GENERAL SERVICES ADMINISTRATION

[Notice-MK-2017-03; Docket No.2017-0002; Sequence 16]

The Presidential Commission on Election Integrity (PCEI); Upcoming Public Advisory Meeting; Extension of Comment Period

AGENCY: Office of Government-wide Policy (OGP), General Services Administration (GSA).

ACTION: Meeting notice with request for comments; extension of comment period.

SUMMARY: GSA and OGP issued a notice on August 25, 2017, seeking input on an upcoming public advisory meeting, held by the PCEI. The comment period is extended to provide additional time for interested parties to review and submit comments on the notice.

DATES: The comment period for the notice published in the Federal Register at 82 FR 40581 on August 25, 2017, is extended until September 12, 2017. Comments pertaining to the meeting should be submitted no later than 5:00 p.m., Eastern Standard Time, on Tuesday, September 12, 2017.

ADDRESSES: Individuals who wish to submit written comments for the Commission's consideration may do so by either of the following methods:

• Regulations.gov: http://www.regulations.gov. Submit public comments or written statements via the Federal eRulemaking portal by searching for “Notice-MK-2017-03.” Select the link “Comment Now” that corresponds with “Notice-MK-2017-03.” Follow the instructions provided on the screen. Please include your name, organization (if any), and “Notice-MK-2017-03” on your attached document. Please note that any information, including personal or contact information, that you provide on the www.regulations.gov comment form or in an attachment will be publicly disclosed as it is entered, searchable on the Internet, and included in any paper docket.

• Mail: Public comments may also be submitted via mail. Please address public comments to: Mr. Ron Williams, Policy Advisor, Presidential Advisory Commission on Election Integrity, 1650 Pennsylvania Avenue NW., Eisenhower Executive Office Building (EEOB), Rm. 268, Washington, DC 20504. Please note that any written comments received via mail will be uploaded to the docket on www.regulations.gov, where they will be viewable in full by the public, including any personal or contact information.

Written comments not received by 5:00 p.m., EST, on Tuesday, September 12, 2017 may be submitted but will not be considered for the meeting held on Tuesday, September 12, 2017.

FOR FURTHER INFORMATION CONTACT: For questions, please contact Mr. Ron Williams, Policy Advisor, Presidential Advisory Commission on Election Integrity, via email at ElectionIntegrityStaff@ovp.eop.gov or telephone at 202-395-1587. For additional information, please check the Commission's Web page at https://www.whitehouse.gov/blog/2017/07/13/presidential-advisory-commission-election-integrity.

SUPPLEMENTARY INFORMATION: GSA and OGP issued a notice on August 25, 2017, seeking input on an upcoming public advisory meeting, held by the PCEI. The comment period is extended to provide additional time for interested parties to review and submit comments on the notice.

Dated: September 1, 2017.
Allison Fahrenkopf Brigati,
Associate Administrator, Office of Government-wide Policy.

[FR Doc. 2017-19025 Filed 9-7-17; 8:45 am]

BILLING CODE 6820-14-P